DEPARTMENT OF ENERGY

Federal Energy Regulatory Commission

Combined Notice of Filings # 1

August 19, 2008.

Take notice that the Commission received the following electric rate filings:

Docket Numbers: ER01-989-006.

Applicants: Green Mountain Power Corporation.

Description: Green Mountain Power Corporation submits Change-in-Status Report resulting from the merger of Gas de France, which holds an indirect 12.78% interest in GMP, and SUEZ SA to form GDF SUEZ.

Filed Date: 08/12/2008.

Accession Number: 20080813-0298.

Comment Date: 5 p.m. Eastern Time on Tuesday, September 2, 2008.

Docket Numbers: ER02-553-010.

Applicants: Rolling Hills Generating L.L.C.

Description: Updated Market Power Analysis re Rolling Hills Generating, LLC.

Filed Date: 08/18/2008.

Accession Number: 20080818-5139.

Comment Date: 5 p.m. Eastern Time on Monday, September 8, 2008.

Docket Numbers: ER02-1947-009.

Applicants: Occidental Power Services, Inc.

Description: Occidental Power Marketing, LP et. al. submits an updated market power analysis and rate schedule revisions pursuant to Order 697 and 697-A.

Filed Date: 08/12/2008.

Accession Number: 20080813-0157.

Comment Date: 5 p.m. Eastern Time on Tuesday, September 2, 2008.

Docket Numbers: ER02-2559-008; ER02-669-008; ER00-2391-009; ER00-3068-008; ER98-3511-012; ER99-2917-010; ER98-3566-015; ER02-1838-008; ER98-3563-012; ER98-3564-013; ER05-714-003; ER03-623-008; ER04-290-004; ER01-1710-011; ER04-187-006; ER05-236-006; ER02-2166-008; ER01-2139-012; ER03-1375-005; ER02-1903-009; ER02-2120-006

Applicants: Backbone Mountain Windpower LLC; Bayswater Peaking Facility, LLC; Doswell Limited Partnership; FPL Energy Cape, LLC; FPL Energy Maine Hydro, LLC; FPL Energy MH 50, LP; FPL Energy Power Marketing, Inc.; FPL Energy Seabrook, LLC; FPL Energy Wyman, LLC; FPL Energy Wyman IV, LLC; Gexa Energy LLC; Jamaica Bay Peaking Facility, LLC; Meyersdale Windpower, LLC; Mill Run Windpower, LLC; North Jersey Energy Associates, L.P.; Northeast Energy Associates, LP; Pennsylvania Windfarms, Inc.; Somerset Windpower, LLC; Waymart Wind Farm L.P.; FPL Energy Marcus Hook, L.P.; FPLE Rhode Island State Energy, L.P.

Description: FPLE Triennial Filers submits their revised Appendix B-1 which was mistakenly left off in the 6/30/08 submission of their triennial market power analysis.

Filed Date: 08/11/2008

Accession Number: 20080813-0166

Comment Date: 5 p.m. Eastern Time on Tuesday, September 02, 2008

Docket Numbers: ER04-222-006.

Applicants: CPV Milford, LLC.

Description: Amendment to Market Power Update of CPV Milford, LLC.

Filed Date: 08/14/2008.

Accession Number: 20080814-5066.

Comment Date: 5 p.m. Eastern Time on Thursday, September 4, 2008.

Docket Numbers: ER07-1193-002.

Applicants: CPV Liberty, LLC.

Description: CPV Liberty, LLC submits Substitute Original Sheet 3, reflecting the correct effective of 6/6/08 to their application filed on 6/30/08 pursuant to Order 697 and 697-A.

Filed Date: 08/14/2008.

Accession Number: 20080818-0070.

Comment Date: 5 p.m. Eastern Time on Thursday, September 4, 2008.

Docket Numbers: ER07-274-000.

Applicants: Juice Energy, Inc.

Description: Juice Energy, Inc submits clean and redline version of their revised Market-Based Rate Tariff reflecting the revised citation.

Filed Date: 08/14/2008.

Accession Number: 20080818-0073.

Comment Date: 5 p.m. Eastern Time on Thursday, September 4, 2008.

Docket Numbers: ER08-637-004.

Applicants: Midwest Independent Transmission System.

Description: Midwest Independent Transmission System Operator, Inc submits copies of their compliance filing, responding to the questions set forth in Appendix B of the June 13 Order.

Filed Date: 08/12/2008.

Accession Number: 20080814-0068.

Comment Date: 5 p.m. Eastern Time on Tuesday, September 02, 2008

Docket Numbers: ER08-799-001.

Applicants: Consolidated Edison Co. of New York, Inc.

Description: Consolidated Edison Company of New York, Inc submits an errata to their Master Services Agreement 230, Open Access Transmission Tariff, First Revised Volume 1 filed on 4/7/08 with VFT, LLC.

Filed Date: 08/14/2008.

Accession Number: 20080818-0085.

Comment Date: 5 p.m. Eastern Time on Thursday, September 4, 2008.

Docket Numbers: ER08-895-001.

Applicants: Consolidated Edison Co. of New York, Inc.

Description: Consolidated Edison Company of New York, Inc submits responses to the inquiries posed in the Notice of Deficiency that Commission issued on 6/24/08.

Filed Date: 08/04/2008.

Accession Number: 20080814-0290.

Comment Date: 5 p.m. Eastern Time on Monday, August 25, 2008.

Docket Numbers: ER08-1213-002.

Applicants: Westmoreland Partners.

Description: Westmoreland Partners submits revision to its proposed market-based rate tariff filed on 6/30/08 pursuant to Order 697 and 697-A.

Filed Date: 08/12/2008.

Accession Number: 20080813-0297.

Comment Date: 5 p.m. Eastern Time on Monday, August 25, 2008.

Docket Numbers: ER08-1236-001.

Applicants: IPA Trading, LLC.

Description: IPA Trading, LLC submits an amendment to its Rate Schedule 1.

Filed Date: 08/12/2008.

Accession Number: 20080814-0067.

Comment Date: 5 p.m. Eastern Time on Tuesday, August 26, 2008.

Docket Numbers: ER08-1384-000

Applicants: Sierra Pacific Resources Operating Company

Description: Nevada Companies submits amendments to the Sierra Pacific Resources Operating Companies Open Access Transmission Tariff, to be effective 10/10/08.

Filed Date: 08/12/2008.

Accession Number: 20080813-0296.

Comment Date: 5 p.m. Eastern Time on Tuesday, September 2, 2008.

Docket Numbers: ER08-1387-000; ER08-1388-000; ER08-1389-000; ER08-1390-000; ER08-1391-000.

Applicants: Deseret Generation & Transmission Co-op.; Idaho Power Company; NorthWestern Corporation; PacifiCorp; Portland General Electric Company.

Description: Idaho Power Company et. al. submits modifications to Rate Schedule 25 et al. to reflect amendments to the Amended and Restated 2008-2009 Northern Tier Transmission Group Funding Agreement.

Filed Date: 08/12/2008.

Accession Number: 20080814-0106.

Comment Date: 5 p.m. Eastern Time on Tuesday, September 2, 2008

Docket Numbers: ER08-1392-000.

Applicants: Fowler Ridge III Wind Farm LLC.

Description: Application of Fowler Ridge III Wind Farm, LLC for order accepting initial market-based rate tariff, waiving regulations, and granting blanket approvals.

Filed Date: 08/14/2008.

Accession Number: 20080818-0053.

Comment Date: 5 p.m. Eastern Time on Thursday, September 4, 2008.

Docket Numbers: ER08-1399-000.

Applicants: Midwest Independent Transmission System.

Description: Midwest Independent Transmission System Operator, Inc submits their Adjacent Balancing Authority Coordination Agreement with Manitoba Hydro.

Filed Date: 08/14/2008.

Accession Number: 20080818-0061.

Comment Date: 5 p.m. Eastern Time on Thursday, September 4, 2008.

Docket Numbers: ER08-1400-000.

Applicants: Midwest Independent Transmission System.

Description: Midwest Independent Transmission System Operator, Inc submits its Adjacent Balancing Authority Coordination Agreement with MidAmerican Energy Co.

Filed Date: 08/14/2008.

Accession Number: 20080818-0059.

Comment Date: 5 p.m. Eastern Time on Thursday, September 4, 2008.

Docket Numbers: ER08-1401-000.

Applicants: Midwest Independent Transmission System.

Description: Midwest Independent Transmission System Operator, Inc submits its Adjacent Balancing Authority Coordination Agreement with OVEC Balancing Authority.

Filed Date: 08/14/2008.

Accession Number: 20080818-0057.

Comment Date: 5 p.m. Eastern Time on Thursday, September 4, 2008.

Docket Numbers: ER08-1402-000.

Applicants: Duquesne Light Company.

Description: Request of Duquesne Light Co. for transmission rate incentives and approval to implement incentives through formula transmission rates.

Filed Date: 08/14/2008.

Accession Number: 20080818-0091.

Comment Date: 5 p.m. Eastern Time on Thursday, September 4, 2008.

Docket Numbers: ER08-1403-000.

Applicants: ISO New England Inc.

Description: ISO New England Inc., submits its Capital Projects Report and schedule of the unamortized costs of the ISO's funded capital expenditures for the quarter ending 6/30/08.

Filed Date: 08/14/2008.

Accession Number: 20080818-0077.

Comment Date: 5 p.m. Eastern Time on Thursday, September 4, 2008.

Docket Numbers: ER08-1404-000.

Applicants: Midwest Independent System Transmission.

Description: Midwest Independent Transmission System Operator, Inc submits motion for Commission approval of the proposed suspension and eventual termination of the Independent Market Monitor-Balancing Authority Agreement.

Filed Date: 08/14/2008.

Accession Number: 20080818-0080.

Comment Date: 5 p.m. Eastern Time on Thursday, September 4, 2008.

Docket Numbers: ER08-1405-000.

Applicants: Midwest Independent Transmission System.

Description: Midwest Independent Transmission System Operator, Inc submits proposed clarifications and revisions to Module D of the Midwest ISO's Open Access Transmission, Energy and Operating Reserve Markets Tariff etc.

Filed Date: 08/14/2008.

Accession Number: 20080818-0078.

Comment Date: 5 p.m. Eastern Time on Thursday, September 4, 2008.

Docket Numbers: ER08-1406-000.

Applicants: ISO New England Inc.

Description: ISO New England, Inc. et. al. submits notice of cancellation of the Standard Large Generator Interconnection Agreement with Waterside Power, LLC effective 6/1/05 etc.

Filed Date: 08/14/2008.

Accession Number: 20080818-0079.

Comment Date: 5 p.m. Eastern Time on Thursday, September 4, 2008.

Docket Numbers: ER08-1408-000.

Applicants: Northeast Utilities Service Company.

Description: Northeast Utilities Service Company submits an errata—Substitute cover page for the agreement in both clean and redlined version to rectify the error to the 3/6/08 filing.

Filed Date: 08/12/2008.

Accession Number: 20080818-0084.

Comment Date: 5 p.m. Eastern Time on Tuesday, September 2, 2008.

Take notice that the Commission received the following open access transmission tariff filings:

Docket Numbers: OA07-33-002; OA07-11-003.

Applicants: Deseret Generation & Transmission Co-op.

Description: Order No. 890 OATT Compliance Filing of Deseret Generation & Transmission Co-operative, Inc.

Filed Date: 08/18/2008.

Accession Number: 20080818-5066.

Comment Date: 5 p.m. Eastern Time on Monday, September 08, 2008

Docket Numbers: OA07-39-002; OA08-71-001.

Applicants: Xcel Energy Services Inc.

Description: Order No. 890 OATT Compliance Filing.

Filed Date: 08/18/2008.

Accession Number: 20080818-5138.

Comment Date: 5 p.m. Eastern Time on Monday, September 8, 2008.

Docket Numbers: OA07-52-004.

Applicants: Puget Sound Energy, Inc.

Description: Order No. 890 OATT Compliance Filing of Puget Sound Energy, Inc.

Filed Date: 08/18/2008.

Accession Number: 20080818-5135.

Comment Date: 5 p.m. Eastern Time on Monday, September 8, 2008.

Any person desiring to intervene or to protest in any of the above proceedings must file in accordance with Rules 211 and 214 of the Commission's Rules of Practice and Procedure (18 CFR 385.211 and 385.214) on or before 5.p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E8-19807 Filed 8-26-08; 8:45 am]

BILLING CODE 6717-01-P